NATIONAL SCIENCE FOUNDATION

Sunshine Act Meeting; National Science Board

The National Science Board's Committee on National Science and Engineering Policy (SEP), pursuant to NSF regulations (45 CFR part 614), the National Science Foundation Act, as amended (42 U.S.C. 1862n-5), and the Government in the Sunshine Act (5 U.S.C. 552b), hereby gives notice of the scheduling of three related teleconference meetings for the transaction of National Science Board business, as follows:

TIME AND DATE: (1) Tuesday, October 22, 2019 at 4:00-4:30 p.m. EDT; (2) Friday, October 25, 2019 at 1:00-2:00 p.m. EDT; and (3) Tuesday, October 29, 2019 at 11:00-11:30 a.m. EDT.

PLACE: These meetings will be held by teleconference at the National Science Foundation, 2415 Eisenhower Avenue, Alexandria, VA 22314. An audio link will be available for the public. Members of the public must contact the Board Office to request the public audio link by sending an email to nationalsciencebrd@nsf.gov at least 24 hours prior to the teleconference.

STATUS: Open.

MATTERS TO BE CONSIDERED: For each open teleconference, the SEP Committee will hear a presentation on the revision plan for the specified Indicators 2020 Report, developed in response to reviews of the draft report from NSB members, federal agency stakeholders, and content experts. The SEP Committee will discuss and provide feedback to the Report authors on the revision plan.

October 22, 2019 Report topic: Knowledge and Technology Intensive Industries

October 25, 2019 Report topic: Academic R&D (reports “A” and “B”)

October 29, 2019 Report topic: Innovation

CONTACT PERSON FOR MORE INFORMATION: Point of contact for this meeting is: Reba Bandyopadhyay (rbandyop@nsf.gov), 703/292-7000.

Meeting information and updates (time, place, subject matter or status of meeting) may be found at http://www.nsf.gov/nsb/meetings/notices.jsp#sunshine. Please refer to the National Science Board website www.nsf.gov/nsb for additional information.

Ann Bushmiller,
Senior Counsel, National Science Board.

[FR Doc. 2019-22889 Filed 10-16-19; 4:15 pm]

BILLING CODE 7555-01-P